DEPARTMENT OF HEALTH AND HUMAN SERVICES

Substance Abuse and Mental Health Services Administration

Center for Substance Abuse Prevention; Notice of Meeting

Pursuant to Pub. L. 92-463, notice is hereby given of the meeting of the Drug Testing Advisory Board of the Center for Substance Abuse Prevention in March 2000.

The Drug Testing Advisory Board meeting will be open from 8:30 a.m. until 10:15 a.m. on March 13, 2000. The open session will include a roll call, an HHS update, a DOT update, and a brief review of alternative specimen testing. A public comment period will be scheduled during the open session. If anyone needs special accommodations for persons with disabilities please notify the Contact listed below.

The Drug Testing Advisory Board meeting will be closed from 10:15 a.m. on March 13, 2000, until 3:30 p.m. on March 14, 2000, because it involves the review of sensitive National Laboratory Certification Program (NLCP) internal operating procedures and program development issues. Therefore, this portion of the meeting will be closed to the public as determined by the Administrator, SAMHSA, in accordance with 5 U.S.C. 552b(c)(2), (4), and (6) and 5 U.S.C. App.2, § 10(d).

An agenda for the open session of this meeting and a roster of board members may be obtained from: Mrs. Giselle Hersh, Division of Workplace Programs, 5600 Fishers Lane, Rockwall II, Suite 815, Rockville, MD 20857, Telephone: (301) 443-6014.

Substantive program information may be obtained from the contact whose name and telephone number is listed below.

Committee Name: Drug Testing Advisory Board

Meeting Date: March 13-14, 2000

Place: Holiday Inn, 5520 Wisconsin Avenue, Chevy Chase, Maryland 20815

Open: March 13, 2000; 8:30 a.m.-10:15 a.m.

Closed: March 13, 2000; 10:15 a.m.-4:30 p.m.

Closed: March 14, 2000; 8:30 a.m.-3:30 p.m.

Contact: Donna M. Bush, PhD., Executive Secretary, Telephone: (301) 443-6014 and FAX: (301) 443-3031.

Dated: February 2, 2000.
Toian Vaughn,
Committee Management Officer, Substance Abuse and Mental Health Services Administration.

[FR Doc. 00-2981 Filed 2-8-00; 8:45 am]

BILLING CODE 4162-20-P